DEPARTMENT OF THE INTERIOR

Fish and Wildlife Service

[FWS-R1-ES-2009-N232; 91400-5110-0000-7B; 91400-9410-0000-7B]

Multistate Conservation Grant Program; Priority List for Conservation Projects

AGENCY: Fish and Wildlife Service, Department of the Interior.

ACTION: Notice of receipt of priority list.

SUMMARY: We, the U.S. Fish and Wildlife Service (FWS), announce the FY 2010 priority list of wildlife and sport fish conservation projects from the Association of Fish and Wildlife Agencies (AFWA). As required by the Wildlife and Sport Fish Restoration Programs Improvement Act of 2000, AFWA submits a list of projects to us each year to consider for funding under the Multistate Conservation Grant program. We then review and award grants from this list.

ADDRESSES: John C. Stremple, Multistate Conservation Grants Program Coordinator, Division of Federal Assistance, U.S. Fish and Wildlife Service, 4401 North Fairfax Drive, Mail Stop MBSP-4020, Arlington, Virginia 22203.

FOR FURTHER INFORMATION CONTACT: John C. Stremple, (703) 358-2156 (phone) or John_Stremple@fws.gov (e-mail).

SUPPLEMENTARY INFORMATION: The Wildlife and Sport Fish Restoration Programs Improvement Act of 2000 (Improvement Act, Pub. L. 106-408) amended the Pittman-Robertson Wildlife Restoration Act (16 U.S.C. 669 et seq.) and the Dingell-Johnson Sport Fish Restoration Act (16 U.S.C. 777 et seq.) and established the Multistate Conservation Grant Program. The Improvement Act authorizes us to award grants of up to $3 million annually from funds available under each of the Restoration Acts, for a total of up to $6 million annually. We may award grants from a list of priority projects recommended to us by AFWA. The FWS Director, exercising the authority of the Secretary of the Interior, need not fund all projects on the list, but all projects funded must be on the list.

Grantees under this program may use funds for sport fisheries and wildlife management and research projects, boating access development, hunter safety and education, aquatic education, fish and wildlife habitat improvements, and other purposes consistent with the enabling legislation.

To be eligible for funding, a project must benefit fish and/or wildlife conservation in at least 26 States, or in a majority of the States in any one FWS Region, or it must benefit a regional association of State fish and wildlife agencies. We may award grants to a State, a group of States, or one or more nongovernmental organizations. For the purpose of carrying out the National Survey of Fishing, Hunting and Wildlife-Associated Recreation, we may award grants to the FWS, if requested by AFWA, or to a State or a group of States. Also, AFWA requires all project proposals to address its National Conservation Needs, which are announced annually by AFWA at the same time as its request for proposals. Further, applicants must provide certification that no activities conducted under a Multistate Conservation grant will promote or encourage opposition to regulated hunting or trapping of wildlife or to regulated angling or taking of fish.

Eligible project proposals are reviewed and ranked by AFWA Committees and interested nongovernmental organizations that represent conservation organizations, sportsmen's organizations, and industries that support or promote fishing, hunting, trapping, recreational shooting, bowhunting, or archery. AFWA's Committee on National Grants recommends a final list of priority projects to the directors of State fish and wildlife agencies for their approval by majority vote. By statute, AFWA then must transmit the final approved list to the FWS for funding under the Multistate Conservation Grant program by October 1.

This year, we received a list of 13 recommended projects. We recommend them for funding in 2010. AFWA's recommended list follows:

MSCGP 2010 Cycle Recommended Projects
ID | Title | Submitter | WR request | SFR request | Total 2009 grant request
10-007 | State Fish and Wildlife Agency Director Travel Administration and Coordination | AFWA | $82,500.00 | $82,500.00 | $165,000.00
10-008 | State Fish and Wildlife Agency Coordination and Administration | AFWA | 318,920.71 | 318,920.71 | 637,841.42
10-009 | Why Do Some Anglers Not Fish Every Year, and Others Do? | AFWA | 0.00 | 289,536.00 | 289,536.00
10-011 | Protect State Wildlife Agencies Authority to Sustainably Manage Wildlife Resources in Concert with Federal Actions Required by International Treaties and Conventions | AFWA | 70,125.00 | 70,125.00 | 140,250.00
10-014 | Identifying and Implementing Climate Change Adaptation Strategies for Natural Resources: A Series of Regional Climate Change Workshops for State Fish and Wildlife Agencies | AFWA | 60,000.00 | 60,000.00 | 120,000.00
10-016 | Establishment of a National United States Department of Agriculture Farm Service Agency Liaison Biologist Position | University of Tennessee and WMI | 405,000.00 | 0.00 | 337,500.00
10-026 | Implementation of the Hunting Heritage Action Plan | WMI | 296,560.00 | 0.00 | 296,560.00
10-027 | Midwest Fish Habitat Partnerships: Meeting National Fish Habitat Action Plan Goals through Development of a Coordinated Scientific Network | MAFWA | 0.00 | 398,000.00 | 398,000.00
10-025 | Explore Bowhunting Education Program | ATA | 266,217.30 | 0.00 | 266,217.30
10-032 | Coordination of the Industry and Federal and State Agency Coalition | AFWA | 90,600.00 | 90,600.00 | 181,200.00
10-055 | Formulating a Vision for Fish Health Management in Fishery Conservation: Bridging Knowledge Gaps | MSU | 0.00 | 480,932.00 | 480,932.00
10-057 | Hunting Heritage Conservation Challenge Badge Initiative | NWTF | 173,300.00 | 0.00 | 173,300.00
10-063 | Coordination 10-063 of Farm Bill Program Implementation to Optimize Fish and Wildlife Benefits to the States | AFWA | 79,320.00 | 79,320.00 | 158,640.00
Total |  |  | 1,870,433.71 | 1,816,825.71 | 3,645,476.72

Dated: November 17, 2009.
Daniel M. Ashe,
Director, U.S. Fish and Wildlife Service.

[FR Doc. 2010-355 Filed 1-11-10; 8:45 am]

BILLING CODE 4310-55-P